DEPARTMENT OF THE TREASURY

Internal Revenue Service

26 CFR Part 1

[REG-133223-08]

RIN 1545-BI19

Indian Tribal Government Plans; Correction

AGENCY: Internal Revenue Service (IRS), Treasury.

ACTION: Correction to a correction of notice of public hearing on an advance notice of proposed rulemaking; correction.

SUMMARY: This document corrects a correction to a notice of public hearing on an advance proposed rulemaking (REG-133223-08) that was published in the Federal Register on Wednesday, February 29, 2012 (77 FR 12226) relating to Indian tribal government plans.

FOR FURTHER INFORMATION CONTACT: Concerning the proposed regulations, Pamela Kinard at (202) 622-6060, and regarding the submission of public comments and the public hearing, Ms. Oluwafunmilayo (Funmi) Taylor, at (202) 622-7180 (not toll-free numbers).

SUPPLEMENTARY INFORMATION:

Background

The notice of public hearing on an advance notice proposed rulemaking (REG-133223-08) that is the subject of this correction is under section 414(d) of the Internal Revenue Code.

Need for Correction

As published, REG-133223-08, contains errors that may prove to be misleading and are in need of clarification.

Correction of Publication

Accordingly, the publication of the correction to a notice of public hearing on an advance proposed rulemaking (REG-133223-08) which was the subject of FR. Doc. 2012-4850, is corrected as follows:

1. On page 12226, column 3, in the preamble, under the caption SUMMARY:, line three, the language “proposed rulemaking (REG-133233-08)” is corrected to read “proposed rulemaking (REG-133223-08)”

2. On page 12226, column 3, in the preamble, under the paragraph heading “Background”, line three, the language “(REG-133233-08) that is the subject of” is corrected to read “REG-133223-08) that is the subject of”.

3. On page 12226, column 3, in the preamble, under the paragraph heading “Correction of Publication”, line three, the language “proposed rulemaking (REG-133233-08)” is corrected to read “proposed rulemaking (REG-133223-08)”.

LaNita Van Dyke,
Chief, Publications and Regulations Branch, Legal Processing Division, Associate Chief Counsel (Procedure and Administration).

[FR Doc. 2012-5597 Filed 3-7-12; 8:45 am]

BILLING CODE 4830-01-P